DEPARTMENT OF ENERGY

Federal Energy Regulatory Commission

[Docket No. RP08-401-000; RP08-403-000]

Notice of Technical Conference

July 14, 2008.

Columbia Gas Transmission Corporation, Docket No. RP08-401-000, Atmos Energy Marketing, LLC, Docket No. RP08-403-000, BP Energy Company, Delta Energy, LLC, Direct Energy, Hess Corporation, Honda of America Mfg., Inc., Integrys Energy Services, Inc., Interstate Gas Supply, Inc., National Energy Marketers Association, Ohio Farm Bureau Federation, Sequent Energy Management, L.P., Complainants v. Columbia Gas Transmission Corporation, Respondent.

The Commission's July 2, 2008 Order,¹ in the above-captioned proceeding, directed that a technical conference be held to address issues raised by Columbia Gas Transmission Corporation's (Columbia) Natural Gas Act (NGA) section 4 filing to clarify the nature of the Master List of Interconnect points and their use as identifiers of virtual scheduling points in Columbia's tariff and the complaint filed by Atmos Energy Marketing, LLC, et al., pursuant to section 5 of the NGA.

¹ Columbia Gas Transmission Corp., 124 FERC ¶ 61,007 (2008).

Take notice that a technical conference will be held on Tuesday, August 5, 2008 and Wednesday August 6, 2008. The conference will begin at 10 a.m. on both days in a room to be designated at the offices of the Federal Energy Regulatory Commission, 888 First Street, NE., Washington, DC 20426. Participants are directed to make available persons familiar with contracting, nominating, scheduling and related practices on Columbia's system.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons and staff are permitted to attend. For further procedural information please contact Robert Mclean at (202) 502-8156.

Kimberly D. Bose,
Secretary.

[FR Doc. E8-16706 Filed 7-21-08; 8:45 am]

BILLING CODE 6717-01-P